DEPARTMENT OF ENERGY

Federal Energy Regulatory Commission

Notice of Application to Amend License, and Soliciting Comments, Motions to Intervene, and Protests

April 20, 2000.

Take notice that the following hydroelectric application has been filed with the Commission and is available for public inspection:

a. Application Type: Amendment of license for non-project use of project lands and waters for the Middle Chattahoochee Project.

b. Project No: 2177-039.

c. Dated Filed: March 31, 2000.

d. Applicant: Georgia Power Company.

e. Name of Project: Middle Chattahoochee Hydroelectric Project.

f. Location: On the Chattahoochee River, in Harris and Muscogee Counties, Georgia and Lee and Russell Counties, Alabama.

g. Filed Pursuant to: Federal Power Act, 16 U.S.C. 791(a)-825(r).

h. Applicant Contact: Larry Wall, Georgia Power, 241 Ralph McGill Boulevard, Atlanta, GA 30308-3374, (404) 506-2054.

i. FERC Contact: Any questions on this notice should be addressed to R. Feller at (202) 219-2796 or by e-mail at rainer.feller@ferc.fed.us.

j. Deadline for filing comments and/or motions: 30 days from the issuance date of this notice.

All documents (original and eight copies) should be filed with: David P. Boergers, Secretary, Federal Energy Regulatory Commission, 888 First Street, NE, Washington, DC 20426.

Please include the project number (2177-039) on any comments or motions filed.

k. Description of Filing: Georgia Power proposes to withdraw up to 32 million gallons of water per day from the Goat Rock Development impoundment. The water would be used to for cooling tower make-up, non-contract cooling water, and other plant uses for a proposed natural gas-fired combustion turbine combined-cycle power plant in Lee County, Alabama, outside the project boundary.

l. Location of the Application: A copy of the application is available for inspection and reproduction at the Commission's Public Reference Room, located at 888 First Street, NE, Room 2A, Washington, DC 20436, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Response Documents—Any filings must bear in all capital letters the title “COMMENTS”, “RECOMMENDATIONS FOR TERMS AND CONDITIONS”, “PROTEST”, OR “MOTION TO INTERVENE” as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comment, it will be presumed to have no comments. One copy of an agency's comments must be also sent to the Applicant's representatives.

Linwood A. Watson, Jr.,
Acting Secretary.

[FR Doc. 00-10335 Filed 4-25-00; 8:45 am]

BILLING CODE 6717-01-M